DEPARTMENT OF AGRICULTURE

Animal and Plant Health Inspection Service

9 CFR Part 93

[Docket No. APHIS-2012-0073]

RIN 0579-AD91

Cattle Fever Tick; Importation Requirements for Ruminants From Mexico

AGENCY: Animal and Plant Health Inspection Service, USDA.

ACTION: Proposed rule.

SUMMARY: We are proposing to recognize the State of Sonora as a region in Mexico that is free of fever ticks. We would also establish an exemption from acaricide dipping treatment requirements, and the documentation requirements associated with such dipping, that are currently applicable to cattle and other ruminants originating from Sonora as a condition of eligibility for entry to the United States, provided that certain conditions are met. This proposed action would remove restrictions on the importation of cattle and other ruminants from Sonora that we believe are no longer necessary and reduce the costs associated with tick dipping for exporters and importers of ruminants.

DATES: We will consider all comments that we receive on or before September 15, 2014.

ADDRESSES: You may submit comments by either of the following methods:

• Federal eRulemaking Portal: Go to: http://www.regulations.gov/#!docketDetail;D=APHIS-2012-0073.

• Postal Mail/Commercial Delivery: Send your comment to Docket No. APHIS-2012-0073, Regulatory Analysis and Development, PPD, APHIS, Station 3A-03.8, 4700 River Road Unit 118, Riverdale, MD 20737-1238.

Supporting documents and any comments we receive on this docket may be viewed at http://www.regulations.gov/#!docketDetail;D=APHIS-2012-0073 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Betzaida Lopez, Senior Staff Veterinarian, National Import Export Services, VS, APHIS, 4700 River Road Unit 39, Riverdale, MD 20737; (301) 851-3300.

SUPPLMENTARY INFORMATION:

Background

The regulations in 9 CFR part 93 prohibit or restrict the importation of certain animals, birds, and poultry into the United States to prevent the introduction of communicable diseases of livestock and poultry. Subpart D of part 93 (§§ 93.400 through 93.436, referred to below as the regulations) governs the importation of ruminants; within subpart D, §§ 93.424 through 93.429 specifically address the importation of various ruminants from Mexico into the United States.

In § 93.426, paragraph (a) provides that all ruminants offered for entry into the United States from Mexico must be inspected at a port of entry in order to determine whether they are infested with fever ticks ¹ or are affected with or have been exposed to a communicable disease. Except for ruminants imported under § 93.427(b)(2), which we discuss below, ruminants found to be infected with or exposed to a communicable disease will be refused entry.

¹ Currently, § 93.400 defines fever tick as Boophilus annulatus. However, for the purposes of this document, fever tick means Rhipicephalus annulatus and Rhipicephalus microplus. We discuss this at greater length later in this document.

Section 93.427 contains conditions to mitigate the risk of the spread of fever ticks, tuberculosis, and brucellosis to U.S. livestock via the importation of cattle and other ruminants from Mexico. Paragraph (b) specifically addresses fever ticks, with (b)(1) containing requirements for ruminants that have not been exposed to any communicable disease, including the fever-tick-borne disease bovine babesiosis (currently referred to in the regulations as splenetic, southern, or tick fever), and (b)(2) containing requirements for ruminants that have been exposed to bovine babesiosis or found to be infested with or exposed to fever ticks.

Under paragraph (b)(1), cattle that have not been exposed to bovine babesiosis and have not been infested with or exposed to fever ticks may be imported into the United States through any port of entry, provided that:

• The cattle are accompanied by a certificate showing that they were examined by a veterinarian and determined to be free from communicable diseases and not to have been exposed to such diseases in the 60 days prior to movement to the port of entry;

• The cattle were loaded into cleaned and disinfected cars or trucks, if moved by rail or truck; and that, while en route to the port of entry, they were not trailed or driven through any area infested with fever ticks.

• The cattle are treated at the port of entry with an Animal and Plant Health Inspection Service (APHIS)-approved tickicidal dip once, under the supervision of an APHIS inspector.

Under paragraph (b)(2) of § 93.427, cattle that have been exposed to bovine babesiosis or that have been infested with or exposed to fever ticks, may be imported from Mexico into the United States, provided that:

• The cattle were inspected by a veterinarian in Mexico and, in the determination of the veterinarian, are free from fever ticks and all evidence of communicable diseases, and have not been exposed to communicable diseases, other than bovine babesiosis, during the 60 days prior to movement to a port of entry into the United States.

• The cattle were treated with an APHIS-approved tickicidal dip in Mexico within 7 to 12 days before being offered for entry into the United States. (Paragraph (b) of 9 CFR 72.13 lists approved tickicidal dips.)

• The cattle are accompanied by a certificate issued in accordance with § 93.405 that states that this inspection and dipping have occurred. (Section 93.405 of the regulations contains conditions for the issuance of such certificates.)

• The cattle are presented for entry into the United States at the port of entry at Santa Teresa, NM, or a port of entry within Texas that has been approved by APHIS. (APHIS-approved ports of entry within Texas are listed in § 93.403(c).)

• The importer, or his or her agent, executes and delivers to the inspector at the port of entry an application for inspection and supervised dipping. In this application, the importer, or his or her agent, agrees to waive all claims against the United States for any loss or damage to the cattle occasioned by or resulting from this dipping, or resulting from the fact that they are later found to still be infested with ticks, and to any loss or damage to cattle that come in contact with these cattle.

• When offered for entry, the cattle receive an inspection by an inspector. If free from fever ticks, the cattle are treated once with an APHIS-approved tickicidal dip 7 to 14 days after the dipping in Mexico referred to above. If found to be infested with fever ticks, then the cattle are refused entry and may not be inspected again at a port of entry until they are again dipped and 10 to 14 days have elapsed.

• The cattle are not imported into an area of Texas quarantined for bovine babesiosis, or for tick infestation. (Information regarding such quarantined areas is found in 9 CFR 72.5.)

The Mexican State of Sonora has submitted requests to be evaluated for their fever tick status in accordance with our process for evaluating a foreign region's animal health status, which is described in § 92.2.

In response to these requests, we have prepared a risk assessment that evaluates the fever tick status of Sonora.² Based on that assessment, we have reason to believe that cattle that are born and produced in Sonora, have neither been exposed to nor infested with fever ticks, and have, accordingly, not been exposed to bovine babesiosis present a low likelihood of exposing U.S. livestock to fever ticks via importation into the United States.

² The assessment is available on the Regulations.gov Web site (see ADRESSES above) or by contacting the person listed in this document under the heading FOR FURTHER INFORMATION CONTACT.

We are, therefore, proposing to recognize Sonora as free of fever ticks and to establish an exemption for cattle imported into the United States from Sonora from the acaricide dipping treatment requirements, and the documentation requirements associated with such dipping, that are currently applicable to cattle or other ruminants imported from all regions of Mexico, provided that certain conditions are met. Those conditions are discussed in greater detail below. This proposed action would remove restrictions on the importation of cattle and other ruminants from Sonora that we believe are no longer necessary and would reduce the costs associated with tick dipping for exporters and importers.

Cattle From Regions of Mexico That APHIS Has Determined To Be Free From Fever Ticks

As noted above, current § 93.427(b)(1) contains import requirements for cattle from Mexico that have not been exposed to bovine babesiosis, while paragraph (b)(2) contains requirements for those that have. This proposed rule, in addition to making substantive changes to the regulations, such as exempting cattle from tick-free regions from acaricide dipping, would reorganize paragraph (b), placing the requirements for cattle from such regions in paragraph (b)(1) and those for the remainder of Mexico in (b)(2).

The introductory text of proposed paragraph (b)(1) would state that APHIS has evaluated certain regions of Mexico in accordance with § 92.2 and determined that they are free from fever ticks; a list of all such regions would be found on the Internet at http://www.aphis.usda.gov/wps/portal/aphis/ourfocus/importexport. Copies of the list would also be available by contacting APHIS at the postal address that would be listed in the regulations. The paragraph would further note that regions could be removed from the list based on a determination by APHIS that fever ticks exist in the region, on the discovery of tick-infested cattle from that region at a port of entry into the United States, or on information provided by a representative of the government of that region that fever ticks exist in the region.

Proposed (b)(1)(i) would state that cattle imported from regions of Mexico that APHIS has determined to be free from fever ticks would have to be accompanied by a certificate issued in accordance with § 93.405 that states that the cattle originate from such a region of Mexico. This requirement would provide us with written documentation from a competent Mexican veterinary authority regarding the origin of the cattle and would facilitate traceback in the unlikely event that any cattle from a tick-free region of Mexico are determined to be infested with fever ticks during an inspection at a port of entry on the Mexican border.

Proposed paragraph (b)(1)(ii) would state that if the cattle will transit through an area of Mexico that we have not determined to be free from fever ticks, they would have to be moved in a sealed means of conveyance. This proposed requirement would prevent the commingling of cattle from tick-free regions with cattle that are not from such regions during transit through Mexico prior to export to the United States.

Proposed paragraph (b)(1)(iii) would state that the cattle must be presented for entry into the United States at a port of entry listed in § 93.403(c). This paragraph represents an editorial rather than a substantive change, since cattle from Mexico that have not been exposed to bovine babesiosis are already subject to the general requirement in § 93.426 that ruminants from Mexico must be imported through ports designated in § 93.403. The port-of-entry requirement is intended to ensure that ruminants imported from Mexico enter the United States through land border ports with adequate inspection and quarantine facilities.

Proposed paragraph (b)(1)(iv) would state that the cattle must be segregated at the U.S. port of entry from cattle from regions of Mexico that have not been determined to be free of fever ticks. This proposed requirement would prevent cattle from tick-free regions from commingling at the port of entry with cattle that may have been exposed to bovine babesiosis.

Proposed paragraph (b)(1)(v) would state that the importer, or his or her agent, would have to execute and deliver to the inspector at the port of entry an application for inspection or supervised dipping. In this application, the importer, or his or her agent, would have to agree to waive all claims against the United States for any loss or damage to the cattle occasioned by or resulting from inspection or dipping or from the fact that the cattle are later found still to be tick infested and for any loss or damage to any other cattle in the importer's possession or control that come in contact with the dipped cattle. This paragraph is largely incorporated, with minor editorial changes, from § 93.427(b)(2)(iii) of the existing regulations, differing substantively in that the proposed rule would allow the importer to apply either for inspection or supervised dipping, rather than requiring him or her to apply for both, as the regulations do now.

Proposed paragraph (b)(1)(vi) would state that the cattle must either be inspected by an APHIS inspector at the port of entry for evidence of tick infestation, or be treated with an APHIS-approved tickicidal dip under the supervision of an inspector at the port of entry.

As noted above, the existing regulations require that all cattle from Mexico must, among other things, undergo a tick dip under the supervision of an APHIS inspector at the U.S. port of entry. As we have also noted, however, under this proposed rule, cattle from tick-free regions of Mexico would no longer be required to undergo a tick dip. We believe that, in lieu of a dip, an inspection at the port of entry is an adequate risk-mitigation measure because the exclusion and dipping requirements currently in place in Sonora are functionally equivalent to ours. We would, therefore, allow the exporter to choose between having the cattle inspected by an APHIS inspector at the port of entry or having the cattle undergo a tick dip there. Choosing the inspection option would allow the exporter to avoid the cost of the tick dip. Some exporters may still opt for the dip instead, however, because the dipping process is generally less time-consuming than the inspection process.

Finally, proposed paragraph (b)(1)(vii) would state that if any cattle in a shipment are determined, upon inspection at the port of entry, to be infested with fever ticks, the entire lot would be refused entry and, subsequently, could only be imported into the United States after meeting the conditions for the importation of cattle from regions of Mexico that APHIS has not determined to be free from fever ticks. As noted above, the finding of tick-infested cattle at the port of entry could result in the loss of the exporting region's tick-free status.

Cattle From Regions of Mexico That APHIS Has Not Determined To Be Free From Fever Ticks

Because of the possibility that cattle imported from regions of Mexico that are not free of fever ticks have been exposed to bovine babesiosis, such imports would be allowed only under the conditions currently applicable to exposed cattle, which are contained in paragraph (b)(2) of § 93.427. In our proposed paragraph (b)(2), we would make some editorial revisions to make the regulations clearer and easier to read and would also make one substantive change, which we discuss below.

The provisions contained in proposed paragraphs (b)(2)(i) through (b)(2)(v), which would be incorporated from the existing regulations, with the substantive change referred to above, would state that:

• The cattle would have to be inspeced by a veterinarian in Mexico and determined to be free from fever ticks and all evidence of communicable diseases and not to have been exposed to communicable diseases, other gthan bovine babesiosis, during the 60 days prior to movement to a port of entry into the United States.

• The cattle would have to be treated in Mexico with a tickicidal dip that is listed in § 72.13 within 7 to 14 days (the existing regulations list the range as 7 to 12 days) before being offered for entry into the United States.

• The cattle would have to be accompanied by a certificate issued in accordance with § 93.405 that states that this inspection and dipping have occurred.

• The cattle would have to be presented for entry into the United States at the port of entry at Santa Teresa, NM, or a port of entry within Texas that is listed in § 93.403(c).

• The importer, or his or her agent, would have to execute and deliver to the inspector at the port of entry an application for inspection and supervised dipping. In this application, the importer, or his or her agent, would agree to waive all claims against the United States for any loss or damage to the cattle occasioned by or resulting from this dipping or from the fact that the cattle are later found still to be infested with ticks and for any loss or damage to any other cattle in the importer's possession or control that come in contact with the dipped cattle.

Proposed paragraph (b)(2)(vi) contains port-of-entry inspection and dipping requirements. When offered for entry, the cattle would have to receive an inspection by an inspector. If found to be free from fever ticks, the cattle would have to be treated once at the port with a tickicidal dip listed in § 72.13. That dip would have to take place within 7 to 14 days after the required dipping in Mexico. If found to be infested with fever ticks, the cattle would be refused entry and could not be inspected again at a port of entry until they are dipped a second time and 7 to 14 days have elapsed following the second dipping. Under the current regulations, the required interval before an inspection could take place following the second dipping at the port is 10 to 14 days. We have found operationally, however, that when cattle become infested with fever ticks, ticks will emerge and present evidence of infestation in as few as 7 days. Throughout paragraph (b)(2), we would standardize the intervals between dips or between dips and inspections at 7 to 14 days. That proposed interval is adequate to determine whether the tickicidal treatment has been effective.

Finally, proposed paragraph (b)(2)(vii) would state that the cattle must not be imported into an area of Texas that is quarantined in accordance with § 72.5 for bovine babesiosis, or for tick infestation. This provision, like most of the others in proposed § 93.427(b)(2), is incorporated from the existing regulations.

Miscellaneous Amendments

As we mentioned previously in footnote 1 of this document, § 93.400 of the regulations currently defines fever tick as Boophilus annulatus. However, the genus Boophilus has been reclassified as a subgenus of the genus Rhipicephalus. A final rule published in the Federal Register on February 7, 2013 (78 FR 8960-8961, Docket No. APHIS-2012-0069) updated our domestic bovine babesiosis regulations in 9 CFR 72.1 to reflect this reclassification. Similarly, for the purposes of import requirements for ruminants from regions of North America, we operationally consider fever tick to refer to Rhipicephalus annulatus and Rhipicephalus microplus. We are proposing to amend the definition of fever tick to reflect this operational understanding.

The amended definition would also provide that fever tick would include any other species of tick determined by the Administrator to be a vector of bovine babesiosis and specified on the Internet at the Web address provided in the regulations. This would provide the regulations with needed flexibility in the event that additional tick vectors of bovine babesiosis are discovered in North America.

Additionally, while the regulations currently refer to the disease borne by fever ticks as splenetic, southern, or tick fever, the international taxonomic community favors the term bovine babesiosis. Accordingly, we would remove references to splenetic, southern, and tick fever from the regulations and replace them with the term bovine babesiosis.

Executive Order 12866 and Regulatory Flexibility Act

This proposed rule has been determined to be not significant for the purposes of Executive Order 12866 and, therefore, has not been reviewed by the Office of Management and Budget.

In accordance with 5 U.S.C. 603, we have performed an initial regulatory flexibility analysis, which is summarized below, regarding the economic effects of this proposed rule on small entities. Copies of the full analysis are available by contacting the person listed under FOR FURTHER INFORMATION CONTACT or on the Regulations.gov Web site (see ADDRESSES above for instructions for accessing Regulations.gov).

We are proposing to recognize the Mexican State of Sonora as a region that is free of fever ticks. Further, while the existing fever tick regulations require both inspection and supervised acaricide dipping at the port of entry for all cattle from Mexico, under this proposed rule, importers of cattle from Sonora would have to submit an application either for inspection or dipping, but not both.

From 2009 to 2012, 1.26 million cattle were imported yearly from Mexico into the United States. About one-fourth came from Sonora. Cattle imported into the United States from Mexico are generally purchased by stocker operations that background the cattle on pasture before they are shipped to feedlots. Most of these entities are small according to the Small Business Administration standard for cattle producers.

The average unit price of cattle imported from Mexico from 2009 to 2012 was about $440. The average cost of dipping with acaricide is $3.50 to $10.00 per head. It takes approximately 5 seconds for 3 cattle to cross a dipping vat. For an average 500-head herd, dipping takes about 15 minutes. To inspect a 500-head herd takes from 4 to 12 hours. Depending on the size of the herd and time needed for inspection, some importers may choose to have the cattle dipped rather than inspected. The estimated cost of dipping is equivalent to about 1 to 2 percent of the value of the imported cattle. Any resulting cost savings realized by U.S. cattle importers due to inspection rather than dipping of cattle would depend on the relative price responsiveness of the sellers and buyers of the cattle. APHIS does not expect the rule to result in an increase of any consequence in the number of cattle imported from Mexico.

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging the rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2012-0073. Please send a copy of your comments to: (1) Docket No. APHIS-2012-0073, Regulatory Analysis and Development, PPD, APHIS, Station 3A-03.8, 4700 River Road Unit 118, Riverdale, MD 20737-1238, and (2) Clearance Officer, OCIO, USDA, Room 404-W, 14th Street and Independence Avenue SW., Washington, DC 20250. A comment to OMB is best assured of having its full effect if OMB receives it within 30 days of publication of this proposed rule.

APHIS is proposing to recognize the State of Sonora as a region in Mexico that is free of fever ticks. We would also establish an exemption from acaricide dipping treatment requirements, and the documentation requirements associated with such dipping, that are currently applicable to cattle and other ruminants originating from Sonora as a condition of eligibility for entry to the United States, provided that certain conditions are met. The documentation requirements for the importation of these cattle are currently covered under OMB control numbers 0579-0224 and 0579-0040. However, the application of seals to conveyances will be a new information collection activity.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 1 hour per response.

Respondents: Veterinarians of Mexico and foreign Federal governments.

Estimated annual number of respondents: 1.

Estimated annual number of responses per respondent: 1.

Estimated annual number of responses: 1.

Estimated total annual burden on respondents: 1 hour. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 9 CFR Part 93

Animal diseases, Imports, Livestock, Poultry and poultry products, Quarantine, Reporting and recordkeeping requirements.

Accordingly, we propose to amend 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. In § 93.400, the definition of fever tick is revised to read as follows:

§ 93.400 Definitions.

* * * * *

Fever tick. Rhipicephalus annulatus, Rhipicephalus microplus, and any other species of tick determined by the Administrator to be a vector of bovine babesiosis and specified on the Internet at http://www.aphis.usda.gov/wps/portal/aphis/ourfocus/importexport.

* * * * *

§ 93.423 [Amended]

3. In § 93.423, paragraph (c) is amended by removing the words “splenetic, southern, or tick fever” and adding the words “bovine babesiosis” in their place.

4. In § 93.427, paragraph (b) is revised to read as follows:

§ 93.427 Cattle and other bovines from Mexico.

* * * * *

(b)(1) Cattle from regions of Mexico that APHIS has determined to be free from fever ticks. APHIS has evaluated certain regions of Mexico in accordance with § 92.2 of this chapter, and determined that they are free from fever ticks; a list of all such regions is found on the Internet http://www.aphis.usda.gov/wps/portal/aphis/ourfocus/importexport. Copies of the list are also available by contacting APHIS at the following address: Regionalization Evaluation Services, National Import Export Services, Veterinary Services, Animal and Plant Health Inspection Service, 4700 River Road Unit 38, Riverdale, MD 20737. Regions may be removed from the list based on a determination by APHIS that fever ticks exist in the region, on the discovery of tick-infested cattle from the region at a port of entry into the United States, or on information provided by a representative of the government of that region that fever ticks exist in the region. Cattle from regions of Mexico that APHIS has determined to be free from fever ticks may be imported into the United States subject to the following conditions:

(i) The cattle are accompanied by a certificate issued in accordance with § 93.405 that states that the cattle originate from a region of Mexico that APHIS has determined to be free from fever ticks.

(ii) If the cattle will transit to the United States through an area of Mexico that APHIS has not determined to be free from fever ticks, they are moved in a sealed means of conveyance, and that seal remains intact throughout such transit.

(iii) The cattle are presented for entry into the United States at a land border port of entry listed in § 93.403(c).

(iv) The cattle are segregated at the U.S. port of entry from cattle from regions of Mexico that APHIS has not determined to be free from fever ticks.

(v) The importer, or his or her agent, executes and delivers to the inspector at the port of entry an application for inspection or supervised dipping. In this application, the importer, or his or her agent, waive all claims against the United States for any loss or damage to the cattle occasioned by or resulting from inspection or dipping or from the fact that the cattle are later found still to be tick infested, and for any loss or damage to any other cattle in the importer's possession or control that come in contact with the dipped cattle.

(vi) The cattle are either inspected by an APHIS inspector at the port of entry for evidence of tick infestation or are treated with a tickicidal dip that is listed in § 72.13 of this chapter under the supervision of an inspector at the port of entry.

(vii) If any cattle are determined to be infested with fever ticks, the lot of cattle is refused entry and may only be imported into the United States subject to the requirements in paragraph (b)(2) of this section.

(2) Cattle from regions of Mexico that APHIS has not determined to be free from fever ticks. Cattle from regions of Mexico that APHIS has not determined to be free from fever ticks may only be imported into the United States subject to the following conditions:

(i) The cattle have been inspected by a veterinarian in Mexico and, in the determination of the veterinarian, are free from fever ticks and all evidence of communicable diseases, and have not been exposed to communicable diseases, other than bovine babesiosis, during the 60 days prior to movement to a port of entry into the United States.

(ii) The cattle have been treated in Mexico with a tickicidal dip that is listed in § 72.13 of this chapter within 7 to 14 days before being offered for entry into the United States.

(iii) The cattle are accompanied by a certificate issued in accordance with § 93.405 that states that this inspection and dipping have occurred.

(iv) The cattle are presented for entry into the United States at the port of entry at Santa Teresa, NM, or a port of entry within Texas that is listed in § 93.403(c).

(v) The importer, or his or her agent, executes and delivers to the inspector at the port of entry an application for inspection and supervised dipping. In this application, the importer, or his or her agent, agrees to waive all claims against the United States for any loss or damage to the cattle occasioned by or resulting from this dipping or from the fact that the cattle are later found to still be infested with ticks, and for any loss or damage to any other cattle in the importer's possession or control that come in contact with the dipped cattle.

(vi) When offered for entry, the cattle receive an inspection by an inspector. If free from fever ticks, the cattle are treated once with a tickicidal dip that is listed in § 72.13 of this chapter 7 to 14 days after the dipping required in paragraph (b)(2)(ii) of this section. If found to be infested with fever ticks, the cattle are refused entry and may not be inspected again at a port of entry until they are again dipped and 7 to 14 days have elapsed.

(vii) The cattle are not imported into an area of Texas that is quarantined in accordance with § 72.5 of this chapter for bovine babesiosis, or for tick infestation.

* * * * *

Done in Washington, DC, this 11th day of July 2014.
Kevin Shea,
Administrator, Animal and Plant Health Inspection Service.

[FR Doc. 2014-16783 Filed 7-16-14; 8:45 am]

BILLING CODE 3410-34-P